DEPARTMENT OF DEFENSE

Department of the Air Force

Names of Members of the Performance Review Board for the Department of the Air Force

AGENCY: Department of the Air Force, DOD.

ACTION: Notice.

SUMMARY: Notice is given of the names of members of the 2017 Performance Review Board for the Department of the Air Force.

DATES: These appointments are effective as of November 13, 2017.

SUPPLEMENTARY INFORMATION: Pursuant to 5 U.S.C. 4314(c) (1-5), the Department of the Air Force (AF) announces the appointment of members to the AF's Senior Executive Service (SES) Performance Review Board (PRB). Appointments are made by the authorizing official. Each board member shall review and evaluate performance scores provided by the SES' immediate supervisor. Performance standards must be applied consistently across the AF. The board will make final recommendations to the authorizing official relative to the performance of the executive.

The members of the 2017 Performance Review Board for the Air Force are:

1. Board President—Gen Ellen M. Pawlikowski, Commander, Air Force Material Command

2. Honorable Matthew P. Donovan, Under Secretary of the Air Force

3. General Stephen W. Wilson, Vice Chief of Staff of the Air Force

4. Lt Gen Stayce D. Harris, Assistant Vice Chief of Staff and Director

5. Lt Gen Gina M. Grosso, Deputy Chief of Staff, Manpower, Personnel and Services

6. Lt Gen John F. Thompson, Commander, Space and Missile Systems Center

7. Lt Gen Bradford J. Shwedo, Chief, Information Dominance and Chief Information Officer

8. Lt Gen Jerry D. Harris, Deputy Chief of Staff, Strategic Plans and Requirements

9. Dr. Todd A. Fore, Assistant Deputy Chief of Staff, Manpower, Personnel and Services

10. Ms. Patricia M. Young, Air Force Material Command Executive Director

11. Mr. Richard K. Hartley, Principle Deputy Assistant Secretary, Installations and Environment

12. Mr. Jeffery R. Shelton, Deputy Administrative Assistant for the Secretary of the Air Force

13. Mr. Daniel R. Sitterly, Principal Deputy Assistant Secretary, Manpower and Reserve Affairs

14. Mr. Joseph M. McDade, Principal Deputy General Counsel

15. Mr. John B. Salvatori, Director, Capabilities Management Office

16. Ms. Pamela C. Schwenke, Deputy Assistant Secretary, Cost and Economics

17. Mr. James J. Brooks, Air National Guard, Executive Director

18. Mr. Craig A. Smith, Deputy General Counsel, Intelligence, International and Military Affairs

Additionally, all career status Air Force Tier 3 SES members not included in the above list are eligible to serve on the 2017 Performance Review Board and are hereby nominated for inclusion on an ad hoc basis in the event of absence(s).

FOR FURTHER INFORMATION CONTACT: Please direct any written comments or requests for information to Ms. Lorna Fermanis, Senior Executive Management, AF/DPS, 1040 Air Force Pentagon, Washington, DC 20330-1040 (PH: 703-697-0897; or via email at lorna.fermanis@us.af.mil)

Henry Williams,
Acting Air Force Federal Register Liaison Officer.

[FR Doc. 2017-23327 Filed 10-25-17; 8:45 am]

BILLING CODE 5001-10-P